ENVIRONMENTAL PROTECTION AGENCY

40 CFR Part 180

[EPA-HQ-OPP-2013-0023; FRL-9378-4]

Receipt of Several Pesticide Petitions Filed for Residues of Pesticide Chemicals in or on Various Commodities

AGENCY: Environmental Protection Agency (EPA).

ACTION: Notice of filing of petitions and request for comment.

SUMMARY: This document announces the Agency's receipt of several initial filings of pesticide petitions requesting the establishment or modification of regulations for residues of pesticide chemicals in or on various commodities.

DATES: Comments must be received on or before March 18, 2013.

ADDRESSES: Submit your comments, identified by docket identification (ID) number and the pesticide petition number (PP) of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave., NW., Washington, DC 20460-0001.

• Hand Delivery: To make special arrangements for hand delivery or delivery of boxed information, please follow the instructions at http://www.epa.gov/dockets/contacts.htm.

Additional instructions on commenting or visiting the docket, along with more information about dockets generally, is available at http://www.epa.gov/dockets.

FOR FURTHER INFORMATION CONTACT: A contact person, with telephone number and email address, is listed at the end of each pesticide petition summary. You may also reach each contact person by mail at Registration Division (7505P), Office of Pesticide Programs, Environmental Protection Agency, 1200 Pennsylvania Ave. NW., Washington, DC 20460-0001.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

If you have any questions regarding the applicability of this action to a particular entity, consult the person listed at the end of the pesticide petition summary of interest.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the agency taking?

EPA is announcing its receipt of several pesticide petitions filed under section 408 of the Federal Food, Drug, and Cosmetic Act (FFDCA), (21 U.S.C. 346a), requesting the establishment or modification of regulations in 40 CFR part 180 for residues of pesticide chemicals in or on various food commodities. The Agency is taking public comment on the requests before responding to the petitioners. EPA is not proposing any particular action at this time. EPA has determined that the pesticide petitions described in this document contain the data or information prescribed in FFDCA section 408(d)(2); however, EPA has not fully evaluated the sufficiency of the submitted data at this time or whether the data support granting of the pesticide petitions. After considering the public comments, EPA intends to evaluate whether and what action may be warranted. Additional data may be needed before EPA can make a final determination on these pesticide petitions.

Pursuant to 40 CFR 180.7(f), a summary of each of the petitions that are the subject of this document, prepared by the petitioner, is included in a docket EPA has created for each rulemaking. The docket for each of the petitions is available online at http://www.regulations.gov.

As specified in FFDCA section 408(d)(3), (21 U.S.C. 346a(d)(3)), EPA is publishing notice of the petition so that the public has an opportunity to comment on this request for the establishment or modification of regulations for residues of pesticides in or on food commodities. Further information on the petition may be obtained through the petition summary referenced in this unit.

New Tolerances

1. PP 2E8107. (EPA-HQ-OPP-2012-0899). Interregional Research Project Number 4 (IR-4), 500 College Road East, Suite 201W., Princeton, NJ 08540, requests to establish tolerances in 40 CFR part 180 for residues of the insecticide fenpropathrin, alpha-cyano-3-phenoxybenzyl 2,2,3,3-tetramethylcyclopropanecarboxylate, in or on barley, grain at 0.04 parts per million (ppm); barley, hay at 3.0 ppm; barley, straw at 2.0 ppm; vegetable, fruiting, group 8-10 at 1.0 ppm; fruit, citrus, group 10-10 at 2.0 ppm; fruit, pome, group 11-10 at 5.0 ppm; bushberry subgroup 13-07B at 3.0 ppm; fruit, vine climbing, except fuzzy kiwifruit, subgroup 13-07F at 5.0 ppm; and berry, low growing, subgroup 13-07G at 2.0 ppm. Adequate analytical methodology is available to detect and quantify fenpropathrin at residue levels in numerous matrices. The methods use solvent extraction and partition and/or column chromatography clean-up steps, followed by separation and quantitation using capillary gas liquid chromatography (GLC) with flame ionization detector (FID). Contact: Andrew Ertman, (703) 308-9367, email address: ertman.andrew@epa.gov.

2. PP 2E8119. (EPA-HQ-OPP-2012-0949). Interregional Research Project Number 4 (IR-4), 500 College Road East, Suite 201W., Princeton, NJ 08540, requests to establish tolerances in 40 CFR part 180 for residues of the fungicide triflumizole, [1-[1-((4-chloro-2-(trifluoromethyl) phenyl)imino)-2propoxyethyl]-1H-imidazole] in or on tomato at 1.5 ppm; fruit, pome, group 11-10 at 0.5 ppm; fruit, small, vine climbing, except fuzzy kiwifruit, subgroup 13-07F at 2.5 ppm; and berry, low growing, subgroup, 13-07G at 2.0 ppm. The analytical method is suitable for analyzing crops for residues of triflumizole and its aniline containing metabolites at the proposed tolerance levels. Residue levels of triflumizole are converted to FA-1-1 by acidic and alkaline reflux, followed by distillation. Residues are then extracted and subjected to solid phase extraction (SPE) purification. Detection and quantitation are conducted by gas chromatograph equipped with nitrogen phosphorus detector (GC/NPD), electron capture detector (ECD) or mass spectrometry detection (MSD). Contact: Andrew Ertman, (703) 308-9367, email address: ertman.andrew@epa.gov.

3. PP 2E8125. (EPA-HQ-OPP-2013-0014). Bayer CropScience, 2 T.W. Alexander Drive, Research Triangle Park, NC 27709, requests to establish tolerances in 40 CFR part 180 for residues of the herbicide indaziflam, (N-[(1R, 2S)-2,3-dihydro-2,6-dimethyl-1H-inden-1-yl-1,3,5-triazine-2,4-diamine]-6-(1-fluoroethyl)) and its fluoroethyl-indaziflam metabolite, each expressed as the parent compound, in or on banana at 0.01 ppm; coffee at 0.01 ppm; and palm oil at 0.03 ppm. Indaziflam, residues are quantified in raw agricultural commodities by high pressure liquid chromatography/triple stage quadrupole mass spectrometry (LC/MS/MS) using the stable isotopically labeled analytes as internal standards. Contact: Maggie Rudick, (703) 347-0257, email address: rudick.maggie@epa.gov.

4. PP 2F8055. (EPA-HQ-OPP-2013-0010). KIM-C1, LLC, 2547 West Shaw Avenue, Suite 116, Fresno, CA 93711, requests to establish temporary tolerances in 40 CFR part 180 for residues of the plant growth regulator forchlorfenuron, N-(2-chloro-4-pyridinyl-N'-phenylurea, in or on almond; cherry, sweet; fig; pear; pistachio; plum; prune at 0.01 ppm; and the processed commodity almond, hulls at 0.15 ppm. The visible ultraviolet (UV) detector and mass spectrophotometer (MS) detector are used to measure and evaluate the chemical forchlorfenuron. Contact: Marcel Howard, (703) 305-6784, email address: howard.marcel@epa.gov.

5. PP 2F8086. (EPA-HQ-OPP-2012-0919). Dow AgroSciences (DAS), LLC, 9330 Zionsville Road, Indianapolis, IN 46268, requests to establish tolerances in 40 CFR part 180 for residues of the herbicide halauxifen-methyl, including its metabolites and degradates, in or on the commodities listed below. Compliance with the tolerance levels specified is to be determined by measuring the combined residues of halauxifen-methyl (Methyl 4-amino-3-chloro-6-(4-chloro-2-fluoro-3-methoxyphenyl)pyridine-2-carboxylate) and halauxifen (4-amino-3-chloro-6-(4-chloro-2-fluoro-3-methoxyphenyl) pyridine-2-carboxylic acid) expressed as halauxifen-methyl (parent) equivalents, in or on barley, grain at 0.01 ppm; barley, hay at 0.01 ppm; barley, straw at 0.01 ppm; cattle, fat at 0.01 ppm; cattle, meat at 0.01 ppm; cattle, meat byproducts at 0.01 ppm; goat, fat at 0.01 ppm; goat, meat at 0.01 ppm; goat, meat byproducts at 0.01 ppm; horse, fat at 0.01 ppm; horse, meat at 0.01 ppm; horse, meat byproducts at 0.01 ppm; milk at 0.01 ppm; sheep, fat at 0.01 ppm; sheep, meat at 0.01 ppm; sheep, meat byproducts at 0.01 ppm; wheat, forage at 0.5 ppm; wheat, grain at 0.01 ppm; wheat, hay at 0.04 ppm; wheat, straw at 0.015 ppm. The residue profile of halauxifen-methyl and halauxifen is adequately understood and an acceptable analytical method is available for enforcement purposes. The DAS analytical method study number 110004 outlining the “Method Validation for the Determination of Residues of Halauxifen-methyl Ester, and Halauxifen in Agricultural Commodities, and Wheat Processed Products using Offline Solid-Phase Extraction, and Liquid Chromatography with Mass Spectrometry Detection” was validated on a variety of plant matrices. Contact: Maggie Rudick, (703) 347-0257, email address: rudick.maggie@epa.gov.

6. PP 2F8104. (EPA-HQ-OPP-2013-0011). KIM-C1, LLC, 2547 West Shaw Avenue, Suite 116, Fresno, CA 93711, requests to establish tolerances in 40 CFR part 180 for residues of the plant growth regulator forchlorfenuron, N-(2-chloro-4-pyridinyl-N'-phenylurea, in or on almond; cherry, sweet; fig; pear; pistachio; plum; and prune at 0.04 ppm and the processed commodity almond, hulls, at 0.15 ppm. The UV detector and MS detector are used to measure and evaluate the chemical forchlorfenuron. Contact: Marcel Howard, (703) 305-6784, email address: howard.marcel@epa.gov.

7. PP 2F8120. (EPA-HQ-OPP-2013-0008). Dow AgroSciences, 9330 Zionsville Road, Indianapolis, IN 46268, requests to establish tolerances in 40 CFR part 180 for combined residues of the aminopyralid, (XDE-750: 4-amino-3,6-dichloropyridine-2-carboxylic acid) and its glucose conjugate, expressed as total parent, in or on fish—shellfish, mollusc at 0.01 ppm; fish—shellfish, crustacean at 0.01 ppm; fish—freshwater finfish at 0.04 ppm. Adequate analytical methods for enforcement purposes are available to monitor residues of aminopyralid in fish and shellfish. The analytical method GRM 07.08 uses liquid chromatography and positive ion electrospray tandem spectrometry (LC/MS/MS). Contact: Bethany Benbow, (703) 347-8072, email address: benbow.bethany@epa.gov.

8. PP 2F8135. (EPA-HQ-OPP-2013-0051). Syngenta Crop Protection, LLC., P.O. Box 18300, Greensboro, NC 27419-8300, requests to establish a tolerance in 40 CFR part 180 for residues of the fungicide propiconazole, 1-[[2-(2,4-dichlorophenyl)-4-propyl-1,3-dioxolan-2-yl] methyl]-1H-1,2,4-triazole, and its metabolites determined as 2,4,-dichlorobenzoic acid and expressed as parent compound, in or on rapeseed subgroup 20A at 0.3 ppm. The metabolism data in plants and animals suggest that analytical methods to detect either the phenyl or the triazole ring would be appropriate for the measurement of residues. However, because of the natural occurrence of compounds that interfere with the measurement of triazoles, methods designed to detect this moiety have been proven unreliable and unacceptable. Conversely, conversion of phenyl moiety to 2,4-dichlorobenzoic acid (DCBA) has proven to be satisfactory for all agricultural products analyzed to date. Analytical methods AG-626 and AG-454A were developed for the determination of residues of propiconazole and its metabolites containing the DCBA moiety. Analytical method AG-626 has been accepted and published by EPA as the tolerance enforcement method for crops. Contact: Erin Malone, (703) 347-0253, email address: malone.erin@epa.gov.

Amended Tolerances

1. PP 2E8107. (EPA-HQ-OPP-2012-0899). Interregional Research Project Number 4 (IR-4), 500 College Road East, Suite 201W., Princeton, NJ 08540, requests to amend the tolerances in 40 CFR 180.466 for residues of the insecticide fenpropathrin, alpha-cyano-3-phenoxybenzyl 2,2,3,3-tetramethylcyclopropane-carboxylate, by removing the established tolerances in or on the following commodities and crop groups: Vegetable, fruiting, group 8; fruit, citrus, group 10; fruit, pome, group 11; bushberry subgroup 13B; Juneberry; salal; grape; and strawberry, upon approval of the proposed tolerances listed under “New Tolerance” for PP 2E8107. Contact: Andrew Ertman, (703) 308-9367, email address: ertman.andrew@epa.gov.

2. PP 2F8129. (EPA-HQ-OPP-2013-0015). BASF Corporation, 26 Davis Drive, P.O. Box 13528, Research Triangle Park, NC 27709-3528, requests to amend 40 CFR 180.649 by amending tolerances for residues of saflufenacil, including its metabolites and degradates, in or on the raw agricultural commodities rice straw at 0.30 ppm. In addition, the current commodity definition, “Grain, cereal, forage, fodder and straw group 16” would be revised to “Grain, cereal, forage, fodder and straw group 16 (except rice straw)”. Compliance with the tolerances levels is to be determined by measuring only the sum of saflufenacil, 2-chloro-5-[3,6-dihydro-3-methyl-2,6-dioxo-4-(trifluoromethyl)-1(2H)-pyrimidinyl]-4-fluoro-N-[[methyl(1-methylethyl) amino] sulfonyl]benzamide, and its metabolites N-[2-chloro-5-(2,6-dioxo-4-(trifluoromethyl)-3,6-dihydro-1(2H)-pyrimidinyl)-4-fluorobenzoyl]-N′-isopropyl sulfamide and N-[4-chloro-2-fluoro-5-(([(isopropylamino)sulfonyl]amino)carbonyl) phenyl]urea, calculated as the stoichiometric equivalent of saflufenacil, in or on the commodities. Adequate enforcement methodology (liquid chromatography/mass spectrometry/mass spectrometry (LCMS/MS) methods D0603/02 (plants) and L0073/01 (livestock)) is available to enforce the tolerance expression. Contact: Bethany Benbow, (703) 347-8072, email address: benbow.bethany@epa.gov.

New Tolerance Exemptions

1. PP IN-10524. (EPA-HQ-OPP-2012-0908). Ecolab, Inc., 370 N. Wabasha Street, St. Paul, MN 55102, requests to establish an exemption from the requirement of a tolerance for residues of Sorbitan, mono-9-octadecenoate, poly(oxy-1,2-ethanediyl) derivs., (Z)- (CAS No. 9005-65-6) when used as a pesticide inert ingredient in antimicrobial pesticide formulations applied to food-contact surfaces in public eating places, dairy processing equipment, and food processing equipment, and utensils in accordance with 40 CFR 180.940(a). The petitioner believes no analytical method is needed because it is not applicable to this inert ingredient petition. Contact: Lisa Austin, (703) 305-7894, email address: austin.lisa@epa.gov.

2. PP IN-10527. (EPA-HQ-OPP-2013-0003). Ecolab, Inc., 370 N. Wabasha Street, St. Paul, MN 55102, requests to establish an exemption from the requirement of a tolerance for residues of FD&C Green No. 3, Disodium salt, (CAS No. 2353-45-9) when used as a pesticide inert ingredient in antimicrobial pesticide formulations applied to food-contact surfaces in public eating places, dairy processing equipment, and food processing equipment, and utensils in accordance with 40 CFR 180.940(a). The petitioner believes no analytical method is needed because it is not applicable to this inert ingredient petition. Contact: Elizabeth Fertich, (703) 347-8560, email address: fertich.elizabeth@epa.gov.

3. PP IN-10540. (EPA-HQ-OPP-2013-0043). AgroFresh, Inc., 727 Norristown Road, Spring House, PA 19477-0904, requests to establish an exemption from the requirement of a tolerance for residues of Styrene-ethylene-propylene block copolymer (CAS No. 108388-87-0), number average molecular weight greater than 100,000 daltons in or on all raw agricultural commodities under 40 CFR 180.960 when used as a suspension agent in agricultural formulations. The petitioner believes no analytical method is needed based on the fact that this information is generally not required when all criteria for polymer exemption are met and when petitioning for an exemption from the requirements of a tolerance without any numerical limitations. Contact: David Lieu, (703) 305-0079, email address: lieu.david@epa.gov.

4. PP 2E8040. (EPA-HQ-OPP-2013-0057). Advanced Polymer Technology, 109 Conica Lane, P.O. Box 160, Harmony, PA 16037, requests to establish an exemption from the requirement of a tolerance for residues of castor oil, polymer with adipic acid, linoleic acid, oleic acid, and ricinoleic acid, (CAS No. 1357486-09-9) 3,748 amu under 40 CFR 180.960 when used as an inert ingredient in pesticide formulations as a solubilizer without limitations. Advanced Polymer Technology is petitioning that castor oil, polymer with adipic acid, linoleic acid, oleic acid and ricinoleic acid be exempt from the requirement of a tolerance based upon the definition of a low-risk polymer under 40 CFR 723.250. Therefore, an analytical method to determine residues on treated crops is not relevant. Contact: David Lieu, (703) 305-0079, email address: lieu.david@epa.gov.

List of Subjects in 40 CFR Part 180

Environmental protection, Agricultural commodities, Feed additives, Food additives, Pesticides and pests, Reporting and recordkeeping requirements.

Dated: February 7, 2013.
Lois Rossi,
Director, Registration Division, Office of Pesticide Programs.

[FR Doc. 2013-03600 Filed 2-14-13; 8:45 am]

BILLING CODE 6560-50-P